FEDERAL COMMUNICATIONS COMMISSION

Notice of Public Information Collection(s) Being Reviewed by the Federal Communications Commission, Comments Requested

February 29, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 8, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval No.: 3060-0027.

Title: Application for Construction Permit for Commercial Broadcast Station.

Form No.: FCC 301.

Type of Review: Revision.

Respondents: Businesses or other for-profit, not-for-profit institutions.

Number of Respondents: 3,370.

Estimated Hours Per Response: 37-121 hours (time varies between contracting time and respondent burden dependent on the type of application submitted).

Frequency of Response: On occasion.

Cost to Respondents: $35,485,300.

Estimated Total Annual Burden Hours: 7,427.

Needs and Uses: FCC 301 is used to apply for authority to construct a new commercial AM, FM or TV broadcast station, or to make changes in the existing facilities of such a station. In addition, FM licensees or permittees may request, by application on FCC 301, upgrades on adjacent and co-channels, modifications to adjacent channels of the same class and downgrades to adjacent channels without first submitting a petition for rulemaking. All applicants using this one-step process must demonstrate that a suitable site exists which would comply with allotment standards with respect to minimum distance separation and city-grade coverage and which would be suitable for tower construction.

To receive authorization for commencement of Digital Television (“DTV”) operation, commercial broadcast licensees must file FCC 301 for a construction permit. This application may be filed anytime after receiving the initial DTV allotment but must be filed before the mid-point in a particular applicant's required construction period. The Commission will consider these applications as minor changes in facilities. Applicants will not have to supply full legal or financial qualification information.

This collection also includes the third party disclosure requirement of Section 73.3580. This section requires local public notice in a newspaper of general circulation of the filing of all applications for new or major changes in facilities. This notice must be completed within 30 days of the tendering of the application. This notice must be published at least twice a week for two consecutive weeks in a three-week period. A copy of this notice must be placed in the public inspection file along with the application.

On January 20, 2000, the Commission adopted a Report and Order in MM Docket Nos. 98-204 and 96-16 in the Matter of Review of the Commission's Broadcast and Cable Equal Employment Opportunity Rules and Policies and Termination of the EEO Streamlining Proceeding. This Report and Order modified the Commission's broadcast and cable EEO rules and policies consistent with the D.C. Circuit's decision in Lutheran Church. The new EEO rules ensure equal employment opportunity in the broadcast industry through vigorous outreach and prevention of discrimination. With the adoption of this Report and Order, the Commission reinstates the requirement that broadcast permittees file the FCC Form 396-A at the time they file an application for a new construction permit. The Commission has revised the FCC 301 to add a question to advise respondents that they are required to submit a 396-A at the time that they apply for a new construction permit.

The data is used by FCC staff to determine whether an applicant meets basic statutory requirements to become a Commission licensee and to ensure that the public interest would be served by grant of the application.

OMB Approval No.: 3060-0032.

Title: Application for Consent to Transfer Control of Entity Holding Broadcast Station License Construction Permit or License.

Form No.: FCC 315.

Type of Review: Revision of currently approved collection.

Respondents: Businesses or other for-profit, not-for-profit institutions.

Number of Respondents: 1,591.

Estimated Hours Per Response: 12—48 hours (the burden hour time and contracting time varies depending on the type of application filed).

Frequency of Response: On occasion.

Cost to Respondents: $12,236,878.

Estimated Total Annual Burden: 2,546.

Needs and Uses: FCC Form 315 and applicable exhibits/explanations are required to be filed when applying for transfer of control of a corporation holding an AM, FM or TV broadcast station construction permit or license. In addition, the applicant must notify the Commission when an approved transfer of control of a broadcast station construction permit or license has been consummated.

This collection also includes the third party disclosure requirement of Section 73.3580. This section requires local public notice in a newspaper of general circulation of the filing of all applications for transfer of control of license/permit. This notice must be completed within 30 days of the tendering of the application. This notice must be published at least twice a week for two consecutive weeks in a three-week period. A copy of this notice must be placed in the public inspection file along with the application. Additionally, an applicant for transfer of control of license must broadcast the same notice over the station at least once daily on four days in the second week immediately following the tendering for filing of the application.

On January 20, 2000, the Commission adopted a Report and Order in MM Docket Nos. 98-204 and 96-16 in the Matter of Review of the Commission's Broadcast and Cable Equal Employment Opportunity Rules and Policies and Termination of the EEO Streamlining Proceeding. This Report and Order modified the Commission's broadcast and cable EEO rules and policies consistent with the D.C. Circuit's decision in Lutheran Church. The new EEO rules ensure equal employment opportunity in the broadcast industry through vigorous outreach and prevention of discrimination. With the adoption of this Report and Order, the Commission reinstates the requirement that broadcast permittees and licensees file the FCC Form 396-A at the time they file a transfer application. The Commission has revised the FCC 315 to add a question to advise respondents that they are required to submit a 396-A at the time that they apply for a transfer of a construction permit or license.

The data is used by FCC staff to determine whether the applicants meet basic statutory requirements to become a Commission licensee/permittee and to assure that the public interest would be served by grant of the application.

OMB Approval No.: 3060-0031.

Title: Application for Consent to Assignment of Broadcast License Construction Permit or License.

Form No.: FCC 314.

Type of Review: Revision of currently approved collection.

Respondents: Businesses or other for-profit, not-for-profit institutions.

Number of Respondents: 1,591.

Estimated Hours Per Response: 12-48 hours (the burden hour time and contracting time varies depending on the type of application filed).

Frequency of Response: On occasion.

Cost to Respondents: $12,236,878.

Estimated Total Annual Burden: 2,546.

Needs and Uses: FCC Form 314 and applicable exhibits/explanations are required to be filed when applying for consent for assignment of an AM, FM or TV broadcast station construction permit or license, along with applicable exhibits and explanations. In addition, the applicant must notify the Commission when an approved assignment of a broadcast station construction permit or license has been consummated.

This collection also includes the third party disclosure requirement of Section 73.3580. This section requires local public notice in a newspaper of general circulation of the filing of all applications for assignment of license/permit. This notice must be completed within 30 days of the tendering of the application. This notice must be published at least twice a week for two consecutive weeks in a three-week period. A copy of this notice must be placed in the public inspection file along with the application. Additionally, an applicant for assignment of license must broadcast the same notice over the station at least once daily on four days in the second week immediately following the tendering for filing of the application.

On January 20, 2000, the Commission adopted a Report and Order in MM Docket Nos. 98-204 and 96-16 in the Matter of Review of the Commission's Broadcast and Cable Equal Employment Opportunity Rules and Policies and Termination of the EEO Streamlining Proceeding. This Report and Order modified the Commission's broadcast and cable EEO rules and policies consistent with the D.C. Circuit's decision in Lutheran Church. The new EEO rules ensure equal employment opportunity in the broadcast industry through vigorous outreach and prevention of discrimination. With the adoption of this Report and Order, the Commission reinstates the requirement that broadcast permittees and licensees file the FCC Form 396-A at the time they file an assignment application. The Commission has revised the FCC 314 to add a question to advise respondents that they are required to submit a 396-A at the time that they apply for an assignment of a construction permit or license.

The data is used by FCC staff to determine whether the applicants meet basic statutory requirements to become a Commission licensee/permittee and to assure that the public interest would be served by grant of the application.

Federal Communications Commission.
Magalie Roman Salas,
Secretary.

[FR Doc. 00-5411 Filed 3-6-00; 8:45 am]

BILLING CODE 6712-01-U